DEPARTMENT OF COMMERCE

National Oceanic and Atmospheric Administration

Proposed Information Collection; Comment Request; Alaska Council Cooperative Annual Reports

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 20, 2019.

ADDRESSES: Direct all written comments to Adrienne Thomas, Government Information Specialist, NOAA, 151 Patton Avenue, Room 159, Asheville, NC 28801 (or via the internet at PRAcomments@doc.gov). Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument and instructions should be directed to Gabrielle Aberle, NOAA's National Marine Fisheries Service, P.O. Box 21668, Juneau, AK 99802-1668, Telephone (907) 586-7228.

SUPPLEMENTARY INFORMATION:

I. Abstract

The North Pacific Fishery Management Council (Council) has developed cooperative programs as options in several fishery catch share programs. As part of cooperative programs, the Council and the National Marine Fisheries Service (NMFS) have required or requested that the cooperatives submit annual reports detailing various fishery activities. These reports are intended to be a resource for the Council to track the effectiveness of cooperatives and their ability to meet the Council's goals, and as way for NMFS to monitor the internal fishery management practices of cooperatives. Additionally, they are a tool for the cooperatives to provide feedback on the programs. This collection covers the following required and voluntary cooperative and inter-cooperative reports, agreements, and plans:

• The Alaska Crab Rationalization Program Cooperative Annual Report is voluntary and provides information about measures taken by cooperatives to increase the availability of crab quota share (QS) for transfer to active participants and crew members in the fishery, as well as actions to decrease high QS lease rates and improve low crew compensation.

• The Rockfish Program Cooperative Annual Report is a required summary of cooperative harvests, retention, discards, monitoring methods, and disciplinary actions made within each Rockfish Program cooperative. Additionally, it contains voluntary reporting requirements including monthly chinook bycatch by origin, and intertemporal harvest information.

• The Amendment 80 Cooperative Annual Report is a required summary of cooperative harvests, discards, monitoring methods, disciplinary actions taken against non-compliant members, groundfish retention calculations, and a third-party audit. Voluntary elements of the report include catch from the Northern Bristol Bay Trawl Area, fleet catch capacity over time, and intertemporal harvest information. An additional voluntary element was added to this report in 2019 requesting information on cooperatives or other measures implemented to reduced bycatch in the BSAI yellowfin sole Trawl Limited Access Sector fishery by A80 participants.

• The Amendment 80 Halibut Prohibited Species Catch (PSC) Management Plan is a voluntary collection providing information to the Council about fishery cooperative halibut avoidance practices, communication between participating harvesters, use of halibut excluders, deck sorting, bycatch performance assessment of individual boats, incentives to reduce bycatch, and consequences for substandard performance.

• The Amendment 80 Halibut Bycatch Avoidance Progress Report is voluntary and intended to inform the Council about non-regulatory methods used within A80 fishery cooperatives to reduce and avoid halibut bycatch in BSAI groundfish fisheries.

• The American Fisheries Act Catcher Vessel Intercooperative Agreement is voluntary and includes fishery allocations of cooperative members, penalties to members that exceed them, monitoring methods, limits on the amount of cod harvested by certain vessels, procedures for intercooperative sideboard transfers, and incentives for prohibited species catch reduction.

• The American Fisheries Act Catcher Vessel Intercooperative Report is voluntary and provides information about cooperative Bering Sea pollock fishery allocations, harvest, salmon bycatch reduction measures, groundfish sideboards, and prohibited species catch.

• The American Fisheries Act Cooperative Annual Report (moved from 0678-0401) is required and must report the cooperative's pollock and sideboard allocations, sub-allocations made to individual vessels, retained and discarded catch, monitoring methods, actions taken against non-compliant members, any pollock landed outside of the State of Alaska, and chinook bycatch including a list of vessels with the highest bycatch rates. An additional voluntary element was added to this report in 2019 requesting information on cooperatives or other measures implemented to reduce bycatch in the BSAI yellowfin sole Trawl Limited Access Sector fishery by AFA participants.

II. Method of Collection

Methods of submittal include text attachments to email, mail, and facsimile transmission.

III. Data

OMB Control Number: 0648-0678.

Form Number(s): None.

Type of Review: Revision and extension of a currently approved information collection.

Affected Public: Businesses or other for-profit organizations.

Estimated Number of Respondents: 26.

Estimated Time per Response: Alaska Crab Rationalization Cooperative Annual Report, 30 hours; Rockfish Program Cooperative Annual Report, 45 hours; Amendment 80 Cooperative Annual Report, 40 hours; Amendment 80 Halibut Bycatch Avoidance Progress Report, 40 hours; Amendment 80 Halibut PSC Management Plan, 12 hours; American Fisheries Act Catcher Vessel Intercooperative Agreement, 40 hours; American Fisheries Act Catcher Vessel Intercooperative Report, 8 hours; American Fisheries Act Cooperative Annual Report, 8 hours.

Estimated Total Annual Burden Hours: 797 hours.

Estimated Total Annual Cost to Public: $3,819 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-15492 Filed 7-19-19; 8:45 am]

BILLING CODE 3510-22-P